DEPARTMENT OF TRANSPORTATION

Office of the Secretary

Privacy Act of 1974: System of Records

AGENCY: Office of the Secretary, DOT.

ACTION: Notice to amend a system of records.

SUMMARY: DOT intends to amend a system of record under the Privacy Act of 1974.

EFFECTIVE DATE: January 28, 2002.

FOR FURTHER INFORMATION CONTACT: Yvonne L. Coates, Department of Transportation, Office of the Secretary, 400 7th Street, SW., Washington, DC 20590, (202) 366-6964 (telephone), (202) 366-7024 (fax), Yvonne.Coates@ost.dot.gov (Internet address).

SUPPLEMENTARY INFORMATION: The Department of Transportation system of records notice subject to the Privacy Act of 1974 (5 U.S.C. 552a), as amended, has been published in the Federal Register and is available from the above mentioned address.

DOT/ALL 7

System name:

Departmental Accounting and Financial Information System (DAFIS) and Delphi Accounting System.

Security classification:

Unclassified, sensitive.

System location:

The system is located in Department of Transportation (DOT), DOT Accounting offices and selected application service provider program, policy, and budget offices. These offices are located within the Office of the Secretary, OST; the Research and Special Programs Administration, RSPA; the Federal Aviation Administration, FAA; the United States Coast Guard, USCG; the Federal Highway Administration, FHWA; the National Highway Traffic Safety, NHTSA; the Federal Transit Administration, FTA; the Maritime Administration, MARAD; the Federal Railroad Administration, FRA; the Federal Motor Carrier Safety Administration, FMCSA; the Bureau of Transportation Statistics, BTS; Transportation Administrative Service Center, TASC, and the Transportation Security Administration, TSA. These offices exercise systems and operational control over applicable records within the system. The system software is centrally maintained by the FAA's Mike Monroney Aeronautical Center, Oklahoma City, Oklahoma. Some centralized reporting functions are performed at Oklahoma City.

Categories of individuals covered by the system of records:

The systems cover: All employees of DOT, and only of DOT, which includes FAA, USCG, NHTSA, FHWA, OST, RSPA, FRA, FTA, MARAD, USCG, FMCSA, BTS, TASC, and TSA. Any other Federal agencies that use the system are responsible for Privacy Act compliance for their own employees.

Categories of records in the system:

Categories include application service provider records and credit cards of government employees, and payment records for non-payroll related expenses, payment records for payroll made offline, collection records for payroll offsets, and labor cost records.

Authority for maintenance of the system:

5 U.S.C 301; 49 U.S.C. 322; 31 U.S.C. 3512 (b).

Purpose(s):

The purpose for collecting the data in the DAFIS and Delphi System of Records is to control and facilitate the accounting and reporting of financial transactions for DOT.

Routine uses of records maintained in the system, including categories of users and the purposes of such uses:

Accounting office personnel use these records to: Provide employees with off-line paychecks, travel advances, travel reimbursements, travel processing, and other official reimbursements; Facilitate the distribution of labor charges for costing purposes; Track outstanding travel advances, receivables, and other non-payroll amounts paid to employees, etc.; and, Clear advances that were made through the system in the form of off-line paychecks, payments for excess household goods made on behalf of the employee, garnishments, overdue travel advances, etc. See Prefatory Statement of General Routine Uses.

Disclosures to consumer reporting agencies:

Disclosures pursuant to 5 U.S.C. 552a(b)(12): Disclosures may be made from this system to “consumer reporting agencies” as defined in the Fair Credit Reporting Act (15 U.S.C. 168a(f)) or the Federal Claims Collection Act of 1982 (31 U.S.C. 3701(a)(3)).

Policies and practices for storing, retrieving, accessing, retaining, and disposing of records in the system:

Storage:

Records are stored on magnetic tape, magnetic disk, microforms, and in file folders. Storage of file folders and microforms is at the geographic locations of the servicing accounting office. Magnetic tape and disk records are maintained at the central maintenance site in Oklahoma City.

Retrievability:

Records are retrieved by employee name and social security number. Retrieval is accomplished by use of telecommunications.

Safeguards:

Access to magnetic tape, disk records, and website records is limited to authorized agency personnel through password, encryption, firewalls, and secured operating system. Hard copy files are accessible to authorized personnel and are kept in locked file cabinets during non-duty hours.

Retention and Disposal:

Original payment vouchers and supporting documentation are retained and disposed in compliance with the General Records Schedules, National Archives and Records Administration, Washington, DC 20408. The following schedules apply: General Records Schedule (GRS) 1, Civilian Personnel Records; GRS 2, Payrolling and Pay Administration Records; GRS 3, Procurement, Supply and Grant Records; GRS 4, Property Disposal Records; GRS 5, Budget Preparation, Presentation, and Appointment Records; GRS 6, Accountable Officers' Accounts Records; GRS 7, Expenditure Accounting Records; GRS 8, Stores, Plant and Cost Accounting Records; and, GRS 9, Travel and Transportation Records.

System Manager(s) and Address:

Director, Office of Financial Management (B-30), Office of the Secretary, Office of Financial Management, 400 Seventh Street SW., Washington, DC 20590.

Notification Procedure:

Inquiries should be directed to the managers of the accounting office supporting the employee's agency. Agency officials will contact the System Manager listed above if any centralized support is required for responses.

Record Access Procedures:

Same as “Notification procedure.”

Contesting record procedures:

Same as “Notification procedure.”

Record Source Categories:

Information is provided by the employee directly or through the DOT Consolidated Uniform Payroll System.

Exemption Claimed for the System:

None.

OMB Control Number:

Not applicable

Dated: December 7, 2001.
Yvonne L. Coates,
Privacy Act Coordinator.

[FR Doc. 01-30837 Filed 12-17-01; 8:45 am]

BILLING CODE 4910-62-P